DEPARTMENT OF DEFENSE

Department of the Navy

Notice of Intent To Grant Exclusive Patent Licenses; Seahawk Biosystems Corporation

AGENCY: Department of the Navy, DoD.

ACTION: Notice.

SUMMARY: The Department of the Navy hereby gives notice of its intent to grant to Seahawk Biosystems Corporation, a revocable, nonassignable, exclusive license to practice in the fields of pathogen detection, disease and infection diagnostic testing, genetic testing for veterinary applications (small and large animals, including equine); pathogen and toxin detection and genetic testing in food products derived from animals; pathogen and toxin detection and genetic testing in food processing; pathogen and toxin detection in, and monitoring of, public water, wastewater, and groundwater in the United States and certain foreign countries, the Government-Owned inventions described in U.S. Patent No. 5,981,297 entitled “Biosensor Using Magnetically-Detected Label”, Navy Case No. 77,576; U.S. Patent No. 6,180,418 entitled “Force Discrimination Assay”, Navy Case No. 78,183; and U.S. Patent Application Serial No. 10/457,705 entitled “Fluidic Force Discrimination”, Navy Case No. 84,529.

DATES: Anyone wishing to object to the grant of this license must file written objections along with supporting evidence, if any, not later than May 4, 2004.

ADDRESSES: Written objections are to be filed with the Naval Research Laboratory, Code 1004, 4555 Overlook Avenue, SW., Washington, DC 20375-5320.

FOR FURTHER INFORMATION CONTACT: Ms. Jane F. Kuhl, Technology Transfer Office, NRL Code 1004, 4555 Overlook Avenue, SW., Washington, DC 20375-5320, telephone (202) 767-3083. Due to U.S. Postal delays, please fax (202) 404-7920, e-mail: kuhl@utopia.nrl.navy.mil or use courier delivery to expedite response.

(Authority: 35 U.S.C. 207, 37 CFR part 404)
Dated: April 13, 2004.
S. A. Hughes,
Lieutenant Commander, Judge Advocate General's Corps, U.S. Navy, Federal Register Liaison Officer.

[FR Doc. 04-8753 Filed 4-16-04; 8:45 am]

BILLING CODE 3810-FF-P